DEPARTMENT OF HEALTH AND HUMAN SERVICES

National Institutes of Health

National Institute of Neurological Disorders and Stroke; Amended Notice of Meeting

Notice is hereby given of a change in the meeting of the National Institute of Neurological Disorders and Stroke Special Emphasis Panel, April 11, 2023, 10:00 a.m. to April 12, 2023, 05:00 p.m., National Institutes of Health, Neuroscience Center, 6001 Executive Boulevard, Rockville, MD 20852 (Virtual Meeting) which was published in the Federal Register on March 22, 2023, FR Doc. 2023-05787, 88 FR 17240.

This notice is being amended to change the meeting dates from April 11-12, 2023, to April 20-21, 2023. The time remains the same. The meeting is closed to the public.

Dated: April 6, 2023.
Tyeshia M. Roberson-Curtis,
Program Analyst, Office of Federal Advisory Committee Policy.

[FR Doc. 2023-07587 Filed 4-10-23; 8:45 am]

BILLING CODE 4140-01-P